DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Nurse Faculty Loan Program-Program Specific Data Form—In Use Without Approval

The Nurse Faculty Loan Program (NFLP)-Program Specific Form is for electronic submission of required data. This clearance request is for approval of the NFLP-Program Specific Data Form to collect the data required to make award determinations for eligible applicants.

The Nurse Faculty Loan Program (NFLP) is authorized under Title VIII of the Public Health Service Act, Section 846A, as amended by the Nurse Reinvestment Act, Public Law 107-205 to increase the number of qualified nurse faculty. The HHS, acting through HRSA, may enter into an agreement with schools of nursing and make an award to establish and operate a distinct NFLP loan fund. The NFLP loan fund is used by the applicant school of nursing to make loans to eligible students pursuing an advanced nursing degree program that will prepare the student to become qualified as a nursing faculty.

The NFLP-Program Specific Data Form will capture program-related information provided by the applicant. NFLP applicants will complete and submit the NFLP-Program Specific Data Form as an electronic attachment with the required application materials. The form will provide the Federal Government with specific data from the applicant which include: (1) The amount of the Federal funds requested by the applicant, (2) the expected contribution from the applicant, (3) the student enrollment and graduation data based on current and prospective NFLP loan recipients, (4) the graduate nursing education programs supported under NFLP, (5) the program accreditation status, (6) the current tuition and fee information for graduate nursing education programs, and (7) the projected NFLP loan fund balance that may be considered as part of the award determination. The data provided in the form are essential for the formula-based criteria used to determine the award amount to the applicant institutions.

Approval of the new NFLP-Program Specific Data Form will facilitate our current effort to develop an automated data collection capability for the NFLP. The electronic data collection capability will streamline the application submission process, enable an efficient award determination process, and serve as a data repository to facilitate reporting on the use of funds and analysis of program outcomes. Additionally, the data will be used to ensure programmatic compliance with the legislative authority and program guidance, to report program accomplishments to policymakers and Congress, and to formulate and justify the appropriation request to the Office of Management and Budget and Congress.

The annual estimate of burden is as follows:

Instrument | Number of respondents | Responses per respondent | Total responses | Hours per response | Total burden hours
NFLP-Program Specific Data Form | 150 | 1 | 150 | 8 | 1200

Written comments and recommendations concerning the proposed information collection should be sent within 30 days of this notice to the desk officer for HRSA, either by e-mail to OIRA_submission@omb.eop.gov or by fax to 202-395-6974. Please direct all correspondence to the “attention of the desk officer for HRSA.”

Dated: September 3, 2008.
Alexandra Huttinger,
Director, Division of Policy Review and Coordination.

[FR Doc. E8-20901 Filed 9-8-08; 8:45 am]

BILLING CODE 4165-15-P